DEPARTMENT OF AGRICULTURE

Forest Service

36 CFR Part 200

RIN 0596-AC89

Enhancing Policies Relating to Partnerships

AGENCY: Forest Service, USDA.

ACTION: Advance notice of proposed rule making; request for comment.

SUMMARY: The Forest Service is proposing to establish an internal directive at Forest Service Handbook (FSH) 1509.14 that would enhance policies related to partnerships. We invite public comment on assessing what changes or additions are needed relating to the Agency's use of partnership arrangements in carrying out our mission. These comments will be considered in developing the proposed directive.

DATES: Comments must be received in writing by November 15, 2010.

ADDRESSES: Written comments concerning this notice should be addressed to Forest Service, USDA, Attn: Director, National Partnership Office, Joe Meade, Mailstop 1158, 1400 Independence Ave., SW., Washington, DC, 20250-1125.

Comments may also be sent via e-mail to abloucks@fs.fed.us, or by the electronic process available at Federal e-Rulemaking portal at http://www.regulations.gov.

All comments, including names and addresses when provided, are placed in the record and are available for public inspection and copying. The public may inspect comments received at 201 14th Street, SW., Room 3NE, Washington, DC 20250. Visitors are encouraged to call ahead 202-205-1055 to facilitate entrance into the building.

FOR FURTHER INFORMATION CONTACT: Andrea Bedell-Loucks, Deputy Director, National Partnership Office, 202-205-8336 or abloucks@fs.fed.us.

Individuals who use telecommunication devices for the deaf (TDD) may call the Federal Relay Service (FRS) at 1-800-877-8339, between 8 a.m. and 8 p.m., Eastern Standard Time, Monday through Friday.

SUPPLEMENTARY INFORMATION:

Background and Need for the Proposed Directive

Strong partnerships are vital to the Forest Service's mission, and by ensuring clear guidance on the use of such arrangements, the Forest Service will be better able to promote their use.

Throughout its 100-year history, the Forest Service has utilized partnership arrangements with States, Tribes, non-governmental organizations, and others to help carry out the motto “Caring for the Land and Serving People.” These arrangements are used in a variety of ways to support Forest Service programs on Federal, State, Tribal and private lands, including ecological restoration and enhancement, interpretation and educational services, enhancement of recreation opportunities, and wildlife habitat improvements. These programs readily provide a spectrum of benefits to the Forest Service, its partners, and the public and may include various instruments to formalize relationships, including grants, contracts or “mutual benefit” agreements.

A number of statutory authorities govern how and when the Forest Service may work cooperatively with partners, such as the Cooperative Funds Act, Cooperative Funds and Deposits Act, Cooperative Forestry Assistance Act, Granger-Thye Act, Federal Grants and Cooperative Agreements Act, and Public Law 105-277, Section 323 as amended by Public Law 111-11, Section 3001, Watershed Restoration and Enhancement Agreements. (For more background on the Forest Service's use of partnership arrangements, readers are referred to the Partnership Guide, http://www.partnershipresourcecenter.org/resources/partnership-guide/Partnership-Guide.pdf).

Establishing partnerships and utilizing them to their greatest potential has not always been a simple matter for the Forest Service and its partners. Challenges have resulted, in part, from the multiplicity of partnership authorities, varying interpretation of these authorities, and time-consuming processes for consummating partnership agreements. To address such challenges, the Forest Service has taken a number of steps in recent years, including creating an internal task force, to identify barriers to partnership utilization, establishing the National Partnership Office, and developing various legislative proposals.

In 2007, the Forest Service embarked on an initiative to institute needed modifications to Agency policy intended to reduce barriers to partnership arrangements. An essential part of this initiative was the review of a number of policy issues raised over the years by those inside and outside the Forest Service that impede effective use of partnerships. Based on that review, these issues fall into several broad categories: Administrative processes; interpretation of legal authorities; accountability and reporting; human resources and ethics; and funding.

Public Input Requested On Policy Needs

The Forest Service is requesting public input with respect to Agency policy. Our intent with the issuance of this notice is to consider such input and, as appropriate, incorporate it in developing this policy. Certain suggestions, whether due to legislative or other limitations, may not be implemented through Agency policy, and we wish for the public to understand that as well.

The Forest Service is especially interested in receiving input to the following questions:

1. Purposes served by partnership arrangements: What should be the purpose(s) of partnership arrangements between the Forest Service and State, Tribal, non-governmental, or other organizations or individuals? Where can or should partnerships have the greatest impact in the future, and toward what ends?

2. Essential characteristics of partnerships: When the Forest Service and a partner work together, what are the essential characteristics that are needed in that relationship to lead to a successful outcome? In what ways does Agency guidance regarding the essential characteristics of the partnership relationship need clarification?

3. Reaching new partners: As the Nation's demographics change, the people served by the Forest Service are becoming increasingly diverse. The Agency wants to reflect this diversity in its partnership activities. We are interested in hearing from the public about: (a) Which potential partners are under-represented and under-served; (b) what kinds of work are these individuals or organizations involved in; (c) how engaging these partners will be beneficial; and (d) how the Forest Service can better access and communicate with under-represented and under-served groups.

4. Partner recognition and sponsorship: Increasingly, non-governmental organizations and individuals are expressing interest in working with the Forest Service to improve the condition of our environment, including our Nation's forests. The Forest Service is able to work with many of these organizations directly, as well as indirectly through established non-profits (for example, the National Forest Foundation and others). As a Federal agency, there are limitations on how we work with and recognize particular partners (for example, signage, plaques, media and communication). What are the appropriate ways the Forest Service should recognize our partners, both non-profit and for-profit?

Conclusion

The Forest Service is considering how best to proceed with policy development relating to partnership arrangements. Public input relating to the questions listed above will be helpful in developing the Agency's policy.

Dated: September 8, 2010.
Thomas L. Tidwell,
Chief, Forest Service.

[FR Doc. 2010-22819 Filed 9-13-10; 8:45 am]

BILLING CODE 3410-11-P